NATIONAL AERONAUTICS AND SPACE ADMINISTRATION

[Notice 01-047]

NASA Advisory Council (NAC), Space Science Advisory Committee (SScAC), Astrobiology Task Force; Meeting

AGENCY: National Aeronautics and Space Administration.

ACTION: Notice of meeting.

SUMMARY: In accordance with the Federal Advisory Committee Act, Pub. L. 92-463, as amended, the National Aeronautics and Space Administration announces a meeting of the NASA Advisory Council, Space Science Advisory Committee, Astrobiology Task Force.

DATES: Monday, April 30, 2001, 8:15 a.m. to 5:30 p.m.; Tuesday, May 1, 2001, 8:15 a.m. to 2:30 p.m.

ADDRESSES: National Aeronautics and Space Administration, 300 E Street, SW, Conference Room 3H46, Washington, DC 20546.

FOR FURTHER INFORMATION CONTACT: Carl Pilcher, Code S, National Aeronautics and Space Administration, Washington, DC 20546, (202) 358-2150.

SUPPLEMENTARY INFORMATION: The meeting will be open to the public up to the capacity of the room. The agenda for the meeting is as follows:

—Perspectives on Biology at National Aerospace and Space Administration

—Astrobiology in Space Science

—Astrobiology at Mars

—Life in Extreme Environments at National Aeronautics and Space Administration and National Science Foundation

It is imperative that the meeting be held on these dates to accommodate the scheduling priorities of the key participants. Visitors will be requested to sign a visitor's register.

April 11, 2001.
Beth M. McCormick,
Advisory Committee Management Officer, National Aeronautics and Space Administration.

[FR Doc. 01-9823 Filed 4-17-01; 8:45 am]

BILLING CODE 7510-01-P